ENVIRONMENTAL PROTECTION AGENCY

[EPA-HQ-OLEM-2021-0762; FRL-9153-03-OLEM]

Strategy To Reduce Lead Exposures and Disparities in U.S. Communities

AGENCY: Environmental Protection Agency (EPA).

ACTION: Notice of availability.

SUMMARY: The Environmental Protection Agency (EPA) is releasing its Strategy to Reduce Lead Exposures and Disparities in U.S. Communities. The EPA developed this strategy to lay out the Agency's plan to strengthen public health protections, address legacy lead contamination for communities with the greatest exposures, and promote environmental justice and equity.

DATES: November 3, 2022.

FOR FURTHER INFORMATION CONTACT: Matthew Lambert, Environmental Protection Agency, 1200 Pennsylvania Ave. NW, Mail Code: 5204T, Washington, DC 20460; telephone number: (202) 566-1385; email address: lambert.matthew@epa.gov.

SUPPLEMENTARY INFORMATION:

I. Background

Today, the U.S. Environmental Protection Agency (EPA) is pleased to announce the public release of its Strategy to Reduce Lead Exposures and Disparities in U.S. Communities (Lead Strategy). The Lead Strategy advances EPA's work to protect the public from lead with an emphasis on high-risk communities and is part of the Agency's commitment to fulfilling President Biden's Executive Order on Advancing Equity and Support for Underserved Communities Through the Federal Government. The Lead Strategy also reflects EPA's commitment to fulfilling the Biden-Harris Administration's historic commitment of resources to replace lead pipes and support lead paint removal under the Lead Pipe and Paint Action Plan.

Adverse effects on intellect, ability to pay attention, and academic achievement have been linked to very low levels of lead in children's blood. These effects may have later-in-life impacts on an exposed individual's quality of life. Additionally, longer-term lead exposure over a lifetime is associated with increased risk of other effects, such as increased blood pressure and hypertension, which can lead to coronary heart disease. The Lead Strategy describes specific actions the Agency will take to prevent childhood lead exposures and exposure inequities that could lead to lifelong health effects and barriers to social and economic well-being

On October 28, 2021, EPA released a draft version of the Lead Strategy and solicited feedback from the public through March of 2022. During the public comment period, EPA hosted eleven public listening sessions on the draft Lead Strategy, one in each of EPA's ten geographic regions and an engagement session for tribes. The public also submitted hundreds of substantive written comments about the draft Lead Strategy and thousands of additional comments were submitted through mass comment campaigns. As a result of this concerted outreach, EPA received feedback from a wide array of stakeholders and community members from around the country. Public commenters shared many ideas and perspectives on how to improve the Lead Strategy and how EPA and the whole of government can better address lead contamination in communities. EPA has carefully considered the comments received on the draft Lead Strategy.

Implementation of EPA's Lead Strategy will result in the Agency taking more effective and efficient actions to minimize lead exposures with an emphasis on overburdened communities and promoting environmental justice and equity. The Lead Strategy includes performance measures and milestones the Agency will use to track and measure its progress in meeting the goals and objectives set forth in the strategy. These performance measures and milestones demonstrate EPA's commitment to addressing legacy lead contamination by strengthening public health protections from all routes of lead exposure.

Dated: October 27, 2022.
Carlton Waterhouse,
Deputy Assistant Administrator, Office of Land and Emergency Management.

[FR Doc. 2022-23903 Filed 11-2-22; 8:45 am]

BILLING CODE 6560-50-P